DEPARTMENT OF ENERGY

Federal Energy Regulatory Commission

[Docket No. EL02-37-000]

NSTAR Electric & Gas Corporation, Complainant v. ISO New England, Inc., and Parties to Market Rule 17, Section 17.3.2.2 (b) Agreements, Respondents; Notice of Complaint

December 7, 2001.

Take notice that on December 6, 2001, NSTAR Electric & Gas Corporation filed a Complaint against the ISO New England, Inc. and Parties to Section 17.3.2.2(b) Agreements seeking referrals of amounts collected in excess of filed rates since May of 1999.

Copies of said filing have been served upon NEPOOL Participants, the ISO New England, Inc., as well as upon the utility regulatory agencies of the six New England States.

Any person desiring to be heard or to protest this filing should file a motion to intervene or protest with the Federal Energy Regulatory Commission, 888 First Street, NE., Washington, DC 20426, in accordance with Rules 211 and 214 of the Commission's Rules of Practice and Procedure (18 CFR 385.211 and 385.214). All such motions or protests must be filed on or before December 26, 2001. Protests will be considered by the Commission in determining the appropriate action to be taken, but will not serve to make protestants parties to the proceeding. Any person wishing to become a party must file a motion to intervene. Answers to the complaint shall also be due on or before December 26, 2001. Copies of this filing are on file with the Commission and are available for public inspection. This filing may also be viewed on the Web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Linwood A. Watson, Jr.,
Acting Secretary.

[FR Doc. 01-30806 Filed 12-12-01; 8:45 am]

BILLING CODE 6717-01-P